DEPARTMENT OF AGRICULTURE

Forest Service

Colville Resource Advisory Committee

AGENCY: Forest Service, USDA.

ACTION: Notice of meeting.

SUMMARY: The Colville Resource Advisory Committee will meet in Colville, Washington, for the purpose of evaluating and recommending resource management projects for funding in FY 2011, under the provisions of Title II of the Secure Rural Schools and Community Self-Determination Act of 2008 (Pub. L. 110-343).

DATES: The meeting will be held on June 22 and 23, 2010.

ADDRESSES: The meeting will take place at Colville Community College, Monumental Room, 985 South Elm Street, Colville, WA 99114.

Send written comments to Colville Resource Advisory Committee, c/o Franklin Pemberton, Colville National Forest, 765 South Main Street, Colville, WA 99114 or electronically to fpemberton@fs.fed.us.

FOR FURTHER INFORMATION CONTACT: Laura Jo West, Designated Federal Official, c/o Colville National Forest, 765 South Main Street, Colville, WA 99114 or (509) 684-7000.

SUPPLEMENTARY INFORMATION: The agenda will include a review of fiscal year 2009 and 2010 Title II project proposals submitted by the Forest Service, the public, non-profits and other agencies, presentations by project proponents, and final recommendations for funding of fiscal year 2009 and 2010 projects.

All Colville Resource Advisory Committee Meetings are open to the public. Public input and comment forum will take place in the morning August 31, 2010. Interested citizens are encouraged to attend.

August 10, 2010.
Laura Jo West,
Designated Federal Officer.

[FR Doc. 2010-20260 Filed 8-17-10; 8:45 am]

BILLING CODE 3410-11-M